NATIONAL AERONAUTICS AND SPACE ADMINISTRATION

[Notice (06-059)]

NASA Advisory Council; Science Committee; Planetary Science Subcommittee; Meeting

AGENCY: National Aeronautics and Space Administration.

ACTION: Notice of meeting.

SUMMARY: The National Aeronautics and Space Administration (NASA) announces a meeting of the Planetary Science Subcommittee of the NASA Advisory Council (NAC). This Subcommittee reports to the Science Committee of the NAC. The Meeting will be held for the purpose of soliciting from the scientific community and other persons scientific and technical information relevant to program planning.

DATES: Monday, September 25, 8:30 a.m. to 5:30 p.m., and Tuesday, September 26, 2006, 8:30 a.m. to 12:30 p.m., Eastern Daylight Time.

ADDRESSES: Southwest Research Institute, Department of Space Studies, Suite 400, Main Conference Room, Exeter Building, 1050 Walnut Street, Boulder, CO 80302.

FOR FURTHER INFORMATION CONTACT: Ms. Marian Norris, Science Mission Directorate, NASA Headquarters, Washington, DC 20546, (202) 358-4452, fax (202) 358-4118, or mnorris@nasa.gov.

SUPPLEMENTARY INFORMATION: The agenda for the meeting includes the following topics:

—Input to NASA Science Plan

—Response and Comments on ESMD Lunar Science Themes and Objectives

—Planning for Spring 2007 Lunar Science Workshop

—Planetary Science Division Overview and Program Status

The meeting will be open to the public up to the seating capacity of the rooms. Sixty minutes will be set aside for verbal comment by members of the general public, not to exceed three minutes per speaker, at 8:30 a.m. on September 26, 2006. Those wishing to speak must sign up at the meeting registration desk by 5 p.m. on September 25, 2006. Members of the public are also welcome to file a written statement at the time of the meeting. Statements may also be submitted in advance of the meeting via e-mail or fax to Ms. Norris. Statements collected in advance will be forwarded to the Subcommittee. To facilitate consideration of the comments provided, statements should be kept to two pages.

Findings and recommendations developed by the Subcommittee during its meeting will be submitted to the Science Committee of the NAC.

It is imperative that the meeting be held on these dates to accommodate the scheduling priorities of the key participants. Attendees will be requested to sign a visitor's register.

Michael F. O'Brien,
Assistant Administrator, Office of External Relations, National Aeronautics and Space Administration.

[FR Doc. E6-13793 Filed 8-21-06; 8:45 am]

BILLING CODE 7510-13-P